DEPARTMENT OF JUSTICE

Office of the Attorney General

[A.G. Order No. 5945-2024]

Attorney General Designation of Switzerland as a “Qualifying State”

AGENCY: Department of Justice.

ACTION: Notice.

SUMMARY: In accordance with an Executive order, the Attorney General has designated Switzerland as a “qualifying state.”

DATES: June 13, 2024. The designation is to become effective on the date of entry into force of an amendment to Annex 1 to the Swiss Data Protection Ordinance listing the United States for data transferred in reliance on the Swiss-U.S. Data Privacy Framework.

FOR FURTHER INFORMATION CONTACT: Susan Hennessey, Chief Counsel Performing the Duties of the Deputy Assistant Attorney General, National Security Division, United States Department of Justice, Washington, DC 20530; telephone: (202) 514-1057. This is not a toll-free number.

SUPPLEMENTARY INFORMATION: Executive Order 14086 of October 7, 2022 (Enhancing Safeguards for United States Signals Intelligence Activities), establishes a two-level redress mechanism for the review of qualifying complaints by individuals filed through an appropriate public authority in a “qualifying state” and alleging certain violations of U.S. law concerning signals intelligence activities. A country or regional economic integration organization may be designated as a qualifying state by the Attorney General if he determines, in consultation with the Secretary of State, the Secretary of Commerce, and the Director of National Intelligence, that it meets the requirements set forth in section 3(f) of Executive Order 14086. The Attorney General has made those determinations on the basis of the information contained in the “Memorandum in Support of Designation of Switzerland as a Qualifying State Under Executive Order 14086” prepared by the National Security Division of the Department of Justice, https://www.justice.gov/opcl/redress-data-protection-review-court.

Designation of Switzerland Pursuant to Section 3(f) of Executive Order 14086

Consistent with section 3(f) of Executive Order 14086, and on the basis of the information contained in the memorandum referenced above, the Attorney General has determined, in consultation with the Secretary of State, the Secretary of Commerce, and the Director of National Intelligence, that:

(1) The laws of Switzerland require appropriate safeguards in the conduct of signals intelligence activities for United States persons' personal information that is transferred from the United States to the territory of Switzerland;

(2) Switzerland is anticipated, pursuant to the adoption of an amendment to Annex 1 to the Swiss Data Protection Ordinance listing the United States for data transferred in reliance on the Swiss-U.S. Data Privacy Framework, to permit the transfer of personal information for commercial purposes between the territory of Switzerland and the territory of the United States; and

(3) Designation of Switzerland would advance the national interests of the United States.

The Attorney General designated Switzerland as a qualifying state for purposes of eligibility for the redress mechanism established in section 3 of Executive Order 14086, with the designation to become effective upon the date of entry into force of an amendment to Annex 1 to the Swiss Data Protection Ordinance listing the United States for data transferred for commercial purposes in reliance on the Swiss-U.S. Data Privacy Framework.

Dated: June 7, 2024.
Merrick B. Garland,
Attorney General.

[FR Doc. 2024-12997 Filed 6-12-24; 8:45 am]

BILLING CODE 4410-PF-P